DEPARTMENT OF DEFENSE

Department of the Army; Corps of Engineers

Intent To Prepare a Draft Environmental Impact Statement (DEIS) for a Proposed: Supercritical Pulverized Coal/Biomass Steam Power Electric Generation Facility in Non-Tidal Wetlands in Surry County, VA

AGENCY: Department of the Army, U.S. Army Corps of Engineers, DOD.

ACTION: Notice of intent.

SUMMARY: The Corps will prepare an Environmental Impact Statement to evaluate project alternatives and the public interest review factors for the proposed supercritical pulverized coal/biomass steam power electric generation facility.

FOR FURTHER INFORMATION CONTACT: Questions about the proposed action and the DEIS can be answered by: Melissa Nash, U.S. Army Corps of Engineers, Norfolk District, 803 Front Street, Norfolk, Virginia 23510 (757) 201-7489.

SUPPLEMENTARY INFORMATION:

1. Proposed Action: Old Dominion Electric Cooperative (ODEC) proposes to construct the Cypress Creek Power Station, a supercritical pulverized coal/biomass steam power electric generation facility that will meet the future energy needs of ODEC7s consumer-members in Virginia. ODEC is a not-for-profit wholesale power supplier to eleven (11) locally owned and controlled electric distribution cooperatives. ODEC will be seeking a permit to construct the facility with a generating capacity of 1,500 MW. ODEC has identified a 1,600-acre site is Surry County, Virginia as their preferred location and a 1,200 acre site in Sussex County, Virginia as their alternative site. Construction of the proposed project at either location will require water supply and discharge lines; railroad infrastructure for fuel delivery; upgrades and interconnection to nearby electric transmission lines; and highway improvements to meet facility traffic requirements.

2. Alternatives: Alternatives which will be investigated include, but will not be limited to, other sites, alternate onsite layouts, other fuel sources, renewable resources, energy conservation measures, a combination of alternatives, and the no project alternative.

3. Scoping Process: A pre-application scoping meeting was held with State and Federal agencies on June 3, 2009 and formal scoping comments were requested by June 26, 2009. The significant issues identified thus far include potential impacts to Federally listed threatened and/or endangered species, other wildlife, historic resources, non-tidal wetlands, air quality and water quality.

4. Public Scoping Meeting: Initial public scoping meetings were held on June 10 and 11, 2009 and comments have been received from the public. The Corps will use the comments received to assist in identifying the significant issues, which should be addressed in the DEIS.

5. DEIS Availability: The Corps estimates that the DEIS will be available to the public for review and comment in the summer of 2010.

Dated: July 15, 2009.
Andrew W. Backus,
Colonel, Corps of Engineers Commanding.

[FR Doc. E9-17369 Filed 7-21-09; 8:45 am]

BILLING CODE P